DEPARTMENT OF VETERANS AFFAIRS

Enhanced-Use Lease Development of Property at the Department of Veterans Affairs Medical Center, Saint Cloud, MN

AGENCY: Department of Veterans Affairs.

ACTION: Notice of intent to designate.

SUMMARY: The Secretary of the Department of Veterans Affairs (VA) intends to designate approximately five acres of land at the Department of Veterans Affairs Medical Center, Saint Cloud, Minnesota, for an enhanced-use leasing development. The Department intends to enter into a 35 to 75-year lease of real property with a lessee/developer who will finance, design, develop, maintain and manage a Community Center Complex, at no cost to VA.

FOR FURTHER INFORMATION CONTACT: Vanessa Chambers, Capital Asset Management and Planning Service (182C), Department of Veterans Affairs, 810 Vermont Avenue, NW., Washington, DC 20420, (202) 565-6554.

SUPPLEMENTARY INFORMATION: 38 U.S.C. 8161 et seq., specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: June 12, 2003.
Anthony J. Principi,
Secretary of Veterans Affairs.

[FR Doc. 03-15833 Filed 6-23-03; 8:45 am]

BILLING CODE 8320-01-P